DEPARTMENT OF TRANSPORTATION

Federal Aviation Administration

14 CFR Part 39

[Docket No. FAA-2009-1088; Directorate Identifier 2008-SW-76-AD]

RIN 2120-AA64

Airworthiness Directives; Sikorsky Aircraft Corporation (Sikorsky) Model S-92A Helicopters

AGENCY: Federal Aviation Administration, DOT.

ACTION: Notice of proposed rulemaking (NPRM).

SUMMARY: This document proposes adopting a new airworthiness directive (AD) for the Sikorsky Model S-92A helicopters. The AD would require revising the Rotorcraft Flight Manual (RFM), Operating Limitations section, to make it clear to operators that this model helicopter was not certificated to the standards that allow for the carriage of human external cargo. This proposal is prompted by a mistake in the RFM, which allows “Class D” rotorcraft load combinations for human external cargo load (HEC) operations for this model. The Model S-92A RFM does not include the required one-engine inoperative (OEI) hover performance and procedures. The actions specified by the proposed AD are intended to correct the Limitations section of the RFM to prevent HEC operations, which could result in injury or loss of life.

DATES: Comments must be received on or before February 8, 2010.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Sikorsky Aircraft Corporation, Attn: Manager, Commercial Technical Support, mailstop s581a, 6900 Main Street, Stratford, CT, telephone (203) 383-4866, e-mail address tsslibrary@sikorsky.com, or at http://www.sikorsky.com.

FOR FURTHER INFORMATION CONTACT: John Coffey, Flight Test Engineer, Boston Aircraft Certification Office, 12 New England Executive Park, Burlington, MA 01803, telephone (781) 238-7173, fax (781) 238-7170.

SUPPLEMENTARY INFORMATION:

Comments Invited

We invite you to submit any written data, views, or arguments regarding this proposed AD. Send your comments to the address listed under the caption ADDRESSES. Include the docket number “FAA-2009-1088, Directorate Identifier 2008-SW-76-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000.

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

This document proposes adopting a new AD for the Sikorsky Model S-92A helicopters. The AD would require revising the RFM SA S92A-RFM-003, Part 1, Section 1, Operating Limitations, Types of Operation, by removing the statement “RESCUE HOIST: Category `A' only External load operations with Class `D' external loads.” The AD would require replacing that statement with “HOIST: Class D external loads PROHIBITED.” Also, the AD would require revising the RFM by removing all instances of the terms “RESCUE HOIST” and replacing them with the term “HOIST.” This proposal is prompted by a review of the RFM, in which a mistake was discovered. The RFM states that “Class D” external loads are approved for external load operations for this model. However, the Model S-92A does not comply with the requirements of 14 CFR 29.865(c)(6) because, for HEC applications requiring use of Category A rotorcraft, that rotorcraft must have OEI hover performance and procedures in the RFM for the weights, altitudes and temperatures for which that external load approval is requested. The Model S-92A RFM does not contain that information. For conducting external load operations under 14 CFR 133, the FAA has defined HEC to be a rotorcraft-load combination “Class D” operation. The actions in the proposed AD are intended to correct this mistake and to prevent HEC operation in noncompliance with the requirements, which could result in injury or loss of life.

This unsafe condition is likely to exist or develop on other helicopters of the same type design. Therefore, the proposed AD would require revising the RFM SA S92A-RFM-003 in accordance with the statements in the previous paragraph.

We estimate that this proposed AD would affect 65 helicopters of U.S. registry. Correcting the wording in the RFM would take a minimal amount of time resulting in minimal cost.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Sikorsky Aircraft Corporation: Docket No. FAA-2009-1088; Directorate Identifier 2008-SW-76-AD.

Applicability: Model S-92A helicopters, certificated in any category.

Compliance: Required within 90 days, unless accomplished previously.

To correct a mistake in the Rotorcraft Flight Manual (RFM) to prevent human external cargo (HEC) operations, which could result in injury or loss of life, do the following:

(a) Revise the RFM SA S92A-RFM-003, Part 1, Section 1, Operating Limitations, Types of Operation, by removing the statement “RESCUE HOIST: Category `A' only External load operations with Class `D' external loads.” Replace that statement with “HOIST: Class D external loads PROHIBITED.” Also, throughout the entire RFM, remove the term “RESCUE HOIST,” and replace it with the term “HOIST.” These revisions may be made by inserting a copy of this AD into the RFM, by making the changes in pen and ink, or by inserting a copy of the Sikorsky RFM revision containing these requirements into the RFM.

(b) To request a different method of compliance or a different compliance time for this AD, follow the procedures in 14 CFR 39.19. Contact the Manager, Boston Aircraft Certification Office, FAA, ATTN: John Coffey, Flight Test Engineer, 12 New England Executive Park, Burlington, MA 01803, telephone (781) 238-7173, fax (781) 238-7170, for information about previously approved alternative methods of compliance.

Issued in Fort Worth, Texas, on October 23, 2009.
Mark R. Schilling,
Acting Manager, Rotorcraft Directorate, Aircraft Certification Service.

[FR Doc. E9-29430 Filed 12-9-09; 8:45 am]

BILLING CODE 4910-13-P